DEPARTMENT OF TRANSPORTATION

Federal Highway Administration

Environmental Impact Statement: Lewis and Clark & Jefferson Counties, MT

AGENCY: Federal Highway Administration (FHWA), DOT.

ACTION: Notice of intent.

SUMMARY: The FHWA is issuing this notice to advise the public that an environmental impact statement will be prepared in accordance with the National Environmental Policy Act for proposed transportation improvement along the I-15 corridor in Helena, Lewis and Clark & Jefferson Counties, Montana. The FHWA, in cooperation with the Montana Department of Transportation (MDT), invites public comment and will be holding public scoping meetings prior to commencing work on the environmental impact statement.

Mail, fax or e-mail written comments to: Mr. Joel Marshik, P.E., Montana Department of Transportation, Environmental Services Manager, 2701 Prospect Avenue, Helena, Montana 59620-1001, Fax: 406-444-7245, e-mail:jmarshik@state.mt.us.

FOR FURTHER INFORMATION CONTACT: Mr. Dale Paulson, Program Development Engineer, FHWA Montana Division, 2880 Skyway Drive, Helena, Montana 59602; Telephone (406) 449-5302, extension 239; or Mr. Joel Marshik, Manager, Environmental Services, Montana Department of Transportation, 2701 Prospect Avenue, Helena, Montana 59620-1001; Telephone (406) 444-7632.

SUPPLEMENTARY INFORMATION: The FHWA, in cooperation with Montana Department of Transportation (MDT), hereby give notice that they intend to prepare an Environmental Impact Statement (EIS) in accordance with the National Environmental Policy Act (NEPA), Public Law 910190, 83 Stat. 85291969), as amended, for corridor improvements to I-15 through Helena, in Lewis and Clark & Jefferson Counties, Montana. This EIS will evaluate the No Build and other Build Alternatives for proposed improvements to I-15 in Lewis and Clark & Jefferson Counties and determine the estimated costs and potential impacts associated with each. The project study area is approximately 13 miles along I-15 between the Montana City and Lincoln Road interchanges. The project includes public involvement, agency coordination, technical analysis, and preparation of the environmental document to record the decision.

Interstate 15 is the only North-South interstate highway in Montana. It is part of the National Highway System and has become critically important in regional, interstate, and international travel and commerce.

Increases in population and changes in land use patterns in the Helena area have resulted in increased traffic volumes on Interstate 15 and on East-West roadways since its construction in 1962. This increased traffic has decreased the operating efficiency of the interchanges on I-15 and on the East-West roadways crossing the highway corridor. I-15 has become a barrier to East-West travel, including pedestrians, bicyclists, and emergency access.

The purpose of the project is to accommodate anticipated traffic volumes safely and efficiently, while similarly considering the movement of east-west traffic crossing the I-15 corridor. The project will address safety and operating efficiencies at I-15 interchange and east-west roadways crossing I-15 between Lincoln Road and Montana City. The crossing roadways will be studied to the extent necessary to ensure their ability to collect and distribute anticipated traffic to and from I-15.

The public involvement program will include the following:

• Public Workshops and Meetings

• Meetings and Presentations to Neighborhood Groups and Business Organizations

• Formation of an Advisory Committee of Local Citizens and Agencies

• Project Web Site (www.I-15helenaeis.com)

• Telephone Information ‘Hotline’ (406-458-4789)

• Project Newsletter

• Public Opinion Survey

The FHWA and MDT invite interested individuals, organizations, Federal, State, and local agencies to participate in defining the alternatives to be evaluated in the EIS and identifying any significant social, economic, and environmental issues relating to the alternatives. An information packet describing the purpose and need for the project, the areas and issues to be evaluated, the citizen and agency involvement program, and the preliminary project schedule will be available at the public scoping meeting. These scoping materials may be requested by contacting Mr. Joel Marshik at the address and phone number above. Scoping comments may be made verbally at the public scoping meeting or in writing. The public will receive notices on the location and time of the scoping meeting through newspaper advertisements and/or individual correspondence.

To ensure that a full range of issues related to this proposed action are addressed and all significant issues are identified, comments and suggestions are invited from all interested parties. If you wish to be placed on the mailing list to receive further information as the project develops, contact Mr. Joel Marshik as previously described.

(Catalog of Federal Domestic Assistance Program Number 20.205, Highway Planning and Construction. The regulations implementing Executive Order 12372 regarding intergovernmental consultation on Federal programs and activities apply to this proposed action.)

(Authority: 23 U.S.C. 315; 49 CFR 1.48)
Issued on date: July 31, 2001.
Dale W. Paulson,
Program Development Engineer, Montana Division, Federal Highway Administration, Helena, MT.

[FR Doc. 01-19809 Filed 8-7-01; 8:45 am]

BILLING CODE 4910-22-M